DEPARTMENT OF COMMERCE

International Trade Administration

[A-122-871]

Certain Corrosion-Resistant Steel Products From Canada: Final Affirmative Determination of Sales at Less Than Fair Value

AGENCY: Enforcement and Compliance, International Trade Administration, Department of Commerce.

SUMMARY: The U.S. Department of Commerce (Commerce) determines that imports of certain corrosion-resistant steel products (CORE) from Canada are being, or are likely to be, sold in the United States at less than fair value (LTFV) for the period of investigation (POI) of July 1, 2023, to June 30, 2024.

DATES: Applicable August 29, 2025.

FOR FURTHER INFORMATION CONTACT: Benjamin Blythe or Reginald Anadio, AD/CVD Operations, Office IV, Enforcement and Compliance, International Trade Administration, U.S. Department of Commerce, 1401 Constitution Avenue NW, Washington, DC 20230; telephone: (202) 482-3457 or (202) 482-3166, respectively.

SUPPLEMENTARY INFORMATION:

Background

On April 10, 2025, Commerce published in the Federal Register its preliminary affirmative determination in the LTFV investigation of CORE from Canada,¹ in which it also postponed the final determination until August 25, 2025, and invited interested parties to comment on the Preliminary Determination.² On July 18, 2025, Commerce issued a post-preliminary analysis memorandum in which it made certain changes to its differential pricing analysis.³ We invited interested parties to comment on the Post-Preliminary Analysis.⁴

¹ See Certain Corrosion-Resistant Steel Products from Canada: Preliminary Affirmative Determination of Sales at Less Than Fair Value, Postponement of Final Determination, and Extension of Provisional Measures, 90 FR 15337, (April 10, 2025) (Preliminary Determination), and accompanying Preliminary Decision Memorandum (PDM).

² See Preliminary Determination, 90 FR at 15337.

³ See Memorandum, “Post-Preliminary Analysis for the Affirmative Determination in the Less-Than-Fair-Value Investigation of Certain Corrosion-Resistant Steel Products from Canada,” dated July 18, 2025 (Post-Preliminary Analysis).

⁴ See Memorandum, “Briefing Schedule,” dated July 21, 2025.

A summary of the events that occurred since Commerce published the Preliminary Determination, as well as a full discussion of the issues raised by parties for this final determination, may be found in the Issues and Decision Memorandum.⁵ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁵ See Memorandum, “Decision Memorandum for the Final Affirmative Determination of Sales at Less Than Fair Value in the Investigation of Corrosion-Resistant Steel Products from Canada,” dated concurrently with, and hereby adopted by, this notice (Issues and Decision Memorandum).

Scope of the Investigation

The product covered by this investigation is CORE from Canada. For a complete description of the scope of this investigation, see Appendix I.

Scope Comments

In the Preliminary Scope Memorandum, we set aside a period of time for parties to raise issues regarding product coverage (i.e., scope) in scope-specific case briefs or other written comments.⁶ We received scope case and rebuttal briefs from multiple interested parties. For a summary of the product coverage comments and rebuttal responses submitted to the record for this final determination, and accompanying discussion and analysis of all comments timely received, see the Final Scope Memorandum.⁷ In the Final Scope Memorandum, Commerce made no changes to the scope language as it appeared in the Initiation Notice.⁸ See Appendix I.

⁶ See Memorandum, “Less-Than-Fair-Value Investigations of Certain Corrosion-Resistant Steel Products from Australia, Brazil, Canada, Mexico, the Netherlands, South Africa, Taiwan, the Republic of Türkiye, the United Arab Emirates, and the Socialist Republic of Vietnam, and Countervailing Duty Investigations of Certain Corrosion-Resistant Steel Products from Brazil, Canada, Mexico, and the Socialist Republic of Vietnam: Preliminary Scope Decision Memorandum,” dated April 3, 2025 (Preliminary Scope Memorandum).

⁷ See Memorandum, “Less-Than-Fair-Value Investigations of Certain Corrosion-Resistant Steel Products from Australia, Brazil, Canada, Mexico, the Netherlands, South Africa, Taiwan, the Republic of Türkiye, the United Arab Emirates, and the Socialist Republic of Vietnam, and Countervailing Duty Investigations of Certain Corrosion-Resistant Steel Products from Brazil, Canada, Mexico, and the Socialist Republic of Vietnam: Final Scope Decision Memorandum,” dated concurrently with this notice (Final Scope Memorandum).

⁸ See Certain Corrosion-Resistant Steel Products from Australia, Brazil, Canada, Mexico, the Netherlands, South Africa, Taiwan, the Republic of Türkiye, the United Arab Emirates, and the Socialist Republic of Vietnam: Initiation of Less-Than-Fair-Value Investigations, 89 FR 80196 (October 2, 2024) (Initiation Notice).

Verification

Commerce conducted verification of the information relied upon in making its final determination in this investigation, in accordance with section 782(i) of the Tariff Act of 1930, as amended (the Act). Specifically, Commerce conducted on-site verifications of the sales and cost information submitted by ArcelorMittal G.P. (AMD) and ArcelorMittal Coteau-du-Lac Limited Partnership (ACDLP) (collectively, AMD/ACDLP) and Stelco Inc. (Stelco). We used standard verification procedures, including an examination of relevant sales and accounting records, and original source documents provided by AMD/ACDLP and Stelco.

Analysis of Comments Received

All issues raised in the case and rebuttal briefs submitted by interested parties in this investigation are addressed in the Issues and Decision Memorandum. A list of the issues addressed in the Issues and Decision Memorandum is attached to this notice as Appendix II.

Changes Since the Preliminary Determination

We made certain changes to the dumping margin calculations for AMD/ACDLP and Stelco since the Preliminary Determination. For a discussion of these changes, see the Issues and Decision Memorandum.

Use of Adverse Facts Available

We continue to find that the application of adverse facts available, pursuant to sections 776(a) and (b) of the Act, is warranted to determine the estimated weighted-average dumping margin for Nova Steel Inc.

All-Others Rate

Section 735(c)(5)(A) of the Act provides that Commerce shall determine an estimated all-others rate for all exporters and producers not individually examined. This rate shall be an amount equal to the weighted average of the estimated weighted-average dumping margins established for exporters and producers individually investigated, excluding any zero and de minimis dumping margins, and any dumping margins determined entirely under section 776 of the Act.

Commerce calculated individual estimated weighted-average dumping margins for Stelco and AMD/ACDLP that are not zero, de minimis, or based entirely on facts otherwise available. Therefore, Commerce calculated the all-others rate by weight averaging the estimated weighted-average dumping margins that it calculated for Stelco and AMD/ACDLP by each company's publicly-ranged values of sales of subject merchandise during the POI.⁹

⁹ With two respondents under examination, Commerce normally calculates: (A) a weighted-average of the estimated weighted-average dumping margins calculated for the examined respondents; (B) a simple average of the estimated weighted-average dumping margins calculated for the examined respondents; and (C) a weighted-average of the estimated weighted-average dumping margins calculated for the examined respondents using each company's publicly-ranged U.S. sales values for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53662 (September 1, 2010), and accompanying Issues and Decision Memorandum at Comment 1. As complete publicly ranged sales data were available, Commerce based the all-others rate on the publicly ranged sales data of the mandatory respondents. For a complete analysis of the data, see Memorandum, “Final Determination All-Others Rate Calculation,” dated concurrently with this memorandum.

Final Determination

Commerce determines that the following estimated weighted-average dumping margins exist:

Exporter/producer | Weighted- average dumping margin (percent) | Cash deposit rate (adjusted for subsidy offset(s)) (percent)
Stelco Inc | 8.13 | 8.13
ArcelorMittal Dofasco G.P./ArcelorMittal Coteau-du-Lac Limited Partnership ¹⁰ | 5.59 | 5.59
Nova Steel Inc | * 52.08 | ¹¹ 50.25
All Others | 5.79 | 5.79
* Based on facts available with adverse inferences.

Disclosure

¹⁰ In the Preliminary Determination, Commerce preliminarily determined that these companies are a single entity. See Preliminary Determination PDM at 4-5; see also Memorandum, “Preliminary Affiliation and Collapsing Memorandum,” dated April 3, 2025. No parties commented on this determination; thus, we continue to treat these companies as a single entity for purposes of this final determination.

¹¹ See unpublished Federal Register notice, “Certain Corrosion-Resistant Steel Products from Canada: Final Affirmative Countervailing Duty Determination,” dated concurrently with this notice and accompanying Issues and Decision Memorandum (IDM) at Comment 31.

Commerce intends to disclose the calculations and analysis performed in connection with this final determination to parties to the proceeding within five days of any public announcement or, if there is no public announcement, within five days of the date of publication of this notice in the Federal Register, in accordance with 19 CFR 351.224(b).

Continuation of Suspension of Liquidation

In accordance with section 735(c)(1)(B) of the Act, Commerce will instruct U.S. Customs and Border Protection (CBP) to continue to suspend liquidation of all entries of subject merchandise, as described in Appendix I of this notice, which were entered, or withdrawn from warehouse, for consumption on or after April 10, 2025, which is the date of publication of the Preliminary Determination in the Federal Register.

Pursuant to sections 735(c)(1)(B)(ii) and 735(c)(5)(A) of the Act, and 19 CFR 351.210(d), upon the publication of this notice, we will instruct CBP to require a cash deposit for estimated antidumping duties for such entries as follows: (1) the cash deposit rates for the companies listed in the table above will be equal to the company-specific estimated weighted-average dumping margins determined in this final determination; (2) if the exporter is not a company identified in the table above, but the producer is, then the cash deposit rate will be equal to the company-specific estimated weighted-average dumping margin established for that producer of the subject merchandise; and (3) the cash deposit rate for all other producers and exporters will be equal to the estimated weighted-average dumping margin for “All Others” in the table above. These suspension of liquidation instructions will remain in effect until further notice.

To determine the cash deposit rates in LTFV investigations, Commerce normally adjusts the estimated weighted-average dumping margins by the amount of export subsidies countervailed in the companion countervailing duty (CVD) investigation when CVD provisional measures are in effect. Accordingly, where Commerce has made a final affirmative determination of countervailable export subsides, Commerce offsets the estimated weighted-average dumping margins in the companion LTFV investigation by the appropriate export subsidy rate. Here, Commerce normally would have adjusted the estimated weighted-average dumping margins that are listed in the table above by the appropriate export subsidy rate determined in the companion CVD investigation to determine the cash deposit rate. However, the suspension of liquidation of provisional measures in the companion CVD investigation has been discontinued.¹² Therefore, at this time Commerce is instructing CBP to collect cash deposits based on the “Weighted-Average Dumping Margin” listed in the above table rather than the “Cash Deposit Rate (Adjusted for Subsidy Offset(s))” listed in the above table. If the U.S. International Trade Commission (ITC) makes a final affirmative determination of injury due to both dumping and subsidies, then the cash deposit rates will be revised effective as of the date of publication of the ITC's final affirmative determination in the Federal Register to be the “Cash Deposit Rate (Adjusted for Subsidy Offset(s))” listed in the table above.

¹² See section 703(d) of the Act, which states that the provisional measures may not be in effect for more than four months, which in the companion CVD investigation is 120 days after the publication of the preliminary determination in the Federal Register, or June 9, 2025 (i.e., the last day provisional measures are in effect).

ITC Notification

In accordance with section 735(d) of the Act, Commerce will notify ITC of its final affirmative determination of sales at LTFV. Because Commerce's final determination is affirmative, in accordance with section 735(b)(2) of the Act, the ITC will make its final determination as to whether the domestic industry in the United States is materially injured, or threatened with material injury, by reason of imports or sales (or the likelihood of sales) of CORE for importation from Canada no later than 45 days after this final determination. If the ITC determines that such injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed in the “Continuation of Suspension of Liquidation” section above.

Administrative Protective Order (APO)

This notice serves as the only reminder to parties subject to an APO of their responsibility concerning the disposition of proprietary information disclosed under the APO in accordance with 19 CFR 351.305(a)(3). Timely written notification of the return or destruction of APO materials or conversion to judicial protective order is hereby requested. Failure to comply with the regulations and terms of an APO is a sanctionable violation.

Notification to Interested Parties

This final determination and notice are issued and published in accordance with sections 735(d) and 777(i) of the Act and 19 CFR 351.210(c).

Dated: August 25, 2025.
Abdelali Elouaradia,
Deputy Assistant Secretary for Enforcement and Compliance.

Appendix I

Scope of the Investigation

The products covered by the investigation are certain flat-rolled steel products, either clad, plated, or coated with corrosion-resistant metals such as zinc, aluminum, or zinc-, aluminum-, nickel- or iron-based alloys, whether or not corrugated or painted, varnished, laminated, or coated with plastics or other non-metallic substances in addition to the metallic coating. The products covered include coils that have a width of 12.7 mm or greater, regardless of form of coil (e.g., in successively superimposed layers, spirally oscillating, etc.). The products covered also include products not in coils (e.g., in straight lengths) of a thickness less than 4.75 mm and a width that is 12.7 mm or greater and that measures at least 10 times the thickness. The products covered also include products not in coils (e.g., in straight lengths) of a thickness of 4.75 mm or more and a width exceeding 150 mm and measuring at least twice the thickness. The products described above may be rectangular, square, circular, or other shape and include products of either rectangular or non-rectangular cross-section where such cross-section is achieved subsequent to the rolling process, i.e., products which have been “worked after rolling” (e.g., products which have been beveled or rounded at the edges).

For purposes of the width and thickness requirements referenced above:

(1) Where the nominal and actual measurements vary, a product is within the scope if application of either the nominal or actual measurement would place it within the scope based on the definitions set forth above, and

(2) where the width and thickness vary for a specific product (e.g., the thickness of certain products with non-rectangular cross-section, the width of certain products with non-rectangular shape, etc.), the measurement at its greatest width or thickness applies.

Steel products included in the scope of the investigation are products in which: (1) iron predominates, by weight, over each of the other contained elements; and (2) the carbon content is 2 percent or less, by weight.

Subject merchandise also includes corrosion-resistant steel that has been further processed in a third country, including but not limited to annealing, tempering, painting, varnishing, trimming, cutting, punching and/or slitting or any other processing that would not otherwise remove the merchandise from the scope of the investigation if performed in the country of manufacture of the in-scope corrosion resistant steel.

All products that meet the written physical description are within the scope of the investigation unless specifically excluded. The following products are outside of and/or specifically excluded from the scope of the investigation:

• Flat-rolled steel products either plated or coated with tin, lead, chromium, chromium oxides, both tin and lead (“terne plate”) or both chromium and chromium oxides (“tin free steel”), whether or not painted, varnished or coated with plastics or other non-metallic substances in addition to the metallic coating;

• Clad products in straight lengths of 4.7625 mm or more in composite thickness and of a width which exceeds 150 mm and measures at least twice the thickness;

• Certain clad stainless flat-rolled products, which are three-layered corrosion-resistant carbon steel flat-rolled products less than 4.75 mm in composite thickness that consist of a carbon steel flat-rolled product clad on both sides with stainless steel in a 20%-60%-20% ratio; and

Also excluded from the scope of the antidumping duty investigation on corrosion resistant steel from Taiwan are any products covered by the existing antidumping duty order on corrosion-resistant steel from Taiwan. See Certain Corrosion-Resistant Steel Products from India, Italy, the People's Republic of China, the Republic of Korea and Taiwan: Amended Final Affirmative Antidumping Determination for India and Taiwan, and Antidumping Duty Orders, 81 FR 48390 (July 25, 2016); Corrosion-Resistant Steel Products from Taiwan: Notice of Third Amended Final Determination of Sales at Less Than Fair Value Pursuant to Court Decision and Partial Exclusion from Antidumping Duty Order, 88 FR 58245 (August 25, 2023).

Also excluded from the scope of the antidumping duty investigation on corrosion-resistant steel from the United Arab Emirates and the antidumping duty and countervailing duty investigations on corrosion-resistant steel from the Socialist Republic of Vietnam are any products covered by the existing antidumping and countervailing duty orders on corrosion-resistant steel from the People's Republic of China and the Republic of Korea and the antidumping duty order on corrosion-resistant steel from Taiwan. See Certain Corrosion-Resistant Steel Products from India, Italy, the People's Republic of China, the Republic of Korea and Taiwan: Amended Final Affirmative Antidumping Determination for India and Taiwan, and Antidumping Duty Orders, 81 FR 48390 (July 25, 2016); see also Certain Corrosion-Resistant Steel Products from India, Italy, Republic of Korea and the People's Republic of China: Countervailing Duty Order, 81 FR 48387 (July 25, 2016). This exclusion does not apply to imports of corrosion-resistant steel that are entered, or withdrawn from warehouse, for consumption in the United States for which the relevant importer and exporter certifications have been completed and maintained and all other applicable certification requirements have been met such that the entry is entered into the United States as not subject to the antidumping and countervailing duty orders on corrosion-resistant steel from the People's Republic of China, the antidumping and countervailing duty orders on corrosion-resistant steel from the Republic of Korea, or the antidumping duty order on corrosion-resistant steel from Taiwan.

The products subject to the investigation are currently classified in the Harmonized Tariff Schedule of the United States (HTSUS) under item numbers: 7210.30.0030, 7210.30.0060, 7210.41.0000, 7210.49.0030, 7210.49.0040, 7210.49.0045, 7210.49.0091, 7210.49.0095, 7210.61.0000, 7210.69.0000, 7210.70.6030, 7210.70.6060, 7210.70.6090, 7210.90.6000, 7210.90.9000, 7212.20.0000, 7212.30.1030, 7212.30.1090, 7212.30.3000, 7212.30.5000, 7212.40.1000, 7212.40.5000, 7212.50.0000, 7212.60.0000, 7225.91.0000, 7225.92.0000, 7226.99.0110, and 7226.99.0130.

The products subject to the investigation may also enter under the following HTSUS item numbers: 7210.90.1000, 7215.90.1000, 7215.90.3000, 7215.90.5000, 7217.20.1500, 7217.30.1530, 7217.30.1560, 7217.90.1000, 7217.90.5030, 7217.90.5060, 7217.90.5090, 7225.99.0090, 7226.99.0180, 7228.60.6000, 7228.60.8000, and 7229.90.1000.

The HTSUS subheadings above are provided for convenience and customs purposes only. The written description of the scope of the investigation is dispositive.

Appendix II

List of Topics Discussed in the Issues and Decision Memorandum

I. Summary

II. Background

III. Changes Since the Preliminary Determination

IV. Discussion of the Issues

Comment 1: Whether Commerce Should Apply Zeroing and Revise Its Differential Pricing Methodology

Comment 2: Whether Commerce Improperly Initiated This Investigation

Comment 3: Whether Commerce Acted Unlawfully by Providing the GOC Only Two Days To Respond to Petitioners' Case Brief

Comment 4: Whether To Apply Partial AFA to AMD

Comment 5: Whether To Grant and Correct AMD's Retroactive Sales Billing Adjustments

Comment 6: Whether Commerce Should Apply Partial AFA With Respect to AMD's Early Payment Discounts and Deny Certain Rebates

Comment 7: Whether Commerce Made Certain Ministerial Errors

Comment 8: Whether Commerce Should Revise AMD's Financial Ratio and Treat All Foreign Exchange Losses as Financial Expenses

Comment 9: Whether Commerce Should Adjust AMD's Reported Cost for Affiliate Purchases of Steel Slab Pursuant to the Major Input Rule

Comment 10: Whether Commerce Should Disallow AMD's Claimed Offset for Insurance Proceeds Related to a Prior Period

Comment 11: Whether To Apply AFA to Nova Steel Inc.

V. Recommendation

[FR Doc. 2025-16603 Filed 8-28-25; 8:45 am]

BILLING CODE 3510-DS-P